ENVIRONMENTAL PROTECTION AGENCY

[FRL-7212-8]

Gulf of Mexico Program Citizens Advisory Committee Meeting

AGENCY: Environmental Protection Agency ( EPA).

ACTION: Notice of meeting.

SUMMARY: Under the Federal Advisory Act, Public Law 92-463, EPA gives notice of a Meeting of the Gulf of Mexico Program (GMP) Citizens Advisory Committee (CAC).

DATES: The CAC Meeting will be held on Tuesday, June 11, 2002, from 1 p.m. to 5:30 p.m and on Thursday, June 13, 2002, from 1 to 3 p.m. The CAC will participate as members of the GMP Focus Teams in the Comprehensive Meeting on June 12, 2002, from 9:00 a.m. to 5:00 p.m. and on Thursday, June 13, 2002, from 8:30 a.m. to 11:30 a.m.

ADDRESSES: The meeting will be held at the Hilton New Orleans Riverside Hotel, Poydras at the Mississippi River, New Orleans, Louisiana. (504-561-0500)

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: May 10, 2002.
Gloria D. Car,
Designated Federal Officer.

Gulf of Mexico Program

Citizens Advisory Committee Meetings and Comprehensive Meeting of the Focus Teams, Hilton Riverside, New Orleans, Louisiana, June 11-13, 2002.

Draft Agenda

June 11, 2002

11:45-1—CAC Members Networking Luncheon

1-1:20 p.m.—Opening Remarks/Introductions (Jim Kachtick, Chair), Review and approval of November 7-8, 2001 Meeting Summary, Jim Kachtick, Chair

1:20-1:45—Chair Report, Jim Kachtick, Chair

• Follow-up on CAC Action Items

1:45-2:15—GMP Director's Report—Jim Giattina, GMPO Director

2:15-2:45—CAC Projects Reports

• Dockwatch Project

• Coastal Bird Trail

• FFA Environmental Speech Project

• GMP Presentation for CAC Members

• CAC Web Page and Status of Bulletin Board

2:45-3—Louisiana Coastal Initiative Discussion

3-3:15—Break

3:15-4:30—Presentation and Discussion on “Confronting Climate Change in the Gulf Coast Region” Report—Dr. Robert Twilley, Director of the Center for Ecology and Environmental Technology, University of Louisiana, Lafayette

4:30-5:00—Members Roundtable and Participation Reports

5-5:15—“Where Do We Go From Here” CAC Activities and Measures Discussion

5:15-5:30—Participation and Plans for Comprehensive Meeting

Meeting Calendar for remainder of 2002 and 2003

Adjourn

June 12, 2002

CAC Members Attend Comprehensive Meeting of the Focus Teams

9:00-11:30—Plenary Session (Napoleon Ballroom, Third Floor)

11:30-1—Break for lunch (free time)

1-5:00—All Focus Teams Meet

Public Health

Habitat

Invasive Species

Nutrient Enrichment

Thursday, June 13

8:30-3—All Focus Teams Meet (Lunch 11:30-12:30)

Public Health (with Vibrio Vulnificus Education Sub-committee in a.m.)

Habitat

Invasive Species

Nutrient Enrichment

1-3—Citizens Advisory Committee Wrap-up

• Discussion and Recommendations

[FR Doc. 02-12409 Filed 5-16-02; 8:45 am]

BILLING CODE 6560-50-P